DEPARTMENT OF TRANSPORTATION

Federal Aviation Administration

14 CFR Part 39

[Docket No. 2001-NM-21-AD]

RIN 2120-AA64

Airworthiness Directives; Fokker Model F.28 Mark 0100 Series Airplanes

AGENCY: Federal Aviation Administration, DOT.

ACTION: Notice of proposed rulemaking (NPRM).

SUMMARY: This document proposes the supersedure of an existing airworthiness directive (AD), applicable to all Fokker Model F.28 Mark 0100 series airplanes, that currently requires replacement of the anti-skid control boxes with improved units. This action would require modification or replacement of the anti-skid control boxes with new improved units, which render the skid control boxes even less susceptible to electromagnetic interference during power-up and power-down transients. This action is prompted by continuing mandatory airworthiness information from a foreign airworthiness authority. The actions specified by the proposed AD are necessary to prevent electromagnetic interference with the anti-skid control system, which could result in reduced brake pressure during low-speed taxiing, and consequent reduced controllability and performance of the airplane. This action is intended to address the identified unsafe condition.

DATES: Comments must be received by September 4, 2001.

ADDRESSES: Submit comments in triplicate to the Federal Aviation Administration (FAA), Transport Airplane Directorate, ANM-114, Attention: Rules Docket No. 2001-NM-21-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2001-NM-21-AD” in the subject line and need not be submitted in triplicate. Comments sent via the Internet as attached electronic files must be formatted in Microsoft Word 97 for Windows or ASCII text.

The service information referenced in the proposed rule may be obtained from Fokker Services B.V., P.O. Box 231, 2150 AE Nieuw-Vennep, the Netherlands. This information may be examined at the FAA, Transport Airplane Directorate, 1601 Lind Avenue, SW., Renton, Washington.

FOR FURTHER INFORMATION CONTACT: Tom Rodriquez, Aerospace Engineer, ANM-116, FAA, Transport Directorate, 1601 Lind Avenue, SW., Renton, Washington 98055-4056; telephone (425) 227-1137; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-21-AD.” The postcard will be date stamped and returned to the commenter.

Availability of NPRMs

Any person may obtain a copy of this NPRM by submitting a request to the FAA, Transport Airplane Directorate, ANM-114, Attention: Rules Docket Number 2001-NM-21-AD, 1601 Lind Avenue, SW., Renton, Washington 98055-4056.

Discussion

On October 17, 2000, the FAA issued AD 2000-21-12, amendment 39-11944 (65 FR 63795, October 25, 2000), applicable to all Fokker Model F.28 Mark 0100 series airplanes, to require replacement of the anti-skid control boxes with improved units. The requirements of that AD are intended to prevent electromagnetic interference (EMI) with the anti-skid control system, which could result in reduced brake pressure during low-speed taxiing, and consequent reduced controllability and performance of the airplane.

Actions Since Issuance of Previous Rule

Since the issuance of that AD, Aircraft Braking Systems (ABS), the manufacturer of the skid control box, has developed another modification, which makes the skid control box even less susceptible to EMI signals during power-up and power-down transients.

Explanation of Relevant Service Information

Fokker has issued Service Bulletin SBF100-32-123, dated November 15, 2000, which describes procedures for replacing the anti-skid control boxes with new, improved skid control boxes. Accomplishment of the actions specified in the service bulletin is intended to adequately address the identified unsafe condition. The Rijksluchtvaartdienst (RLD), the airworthiness authority for the Netherlands, classified this service bulletin as mandatory and issued Dutch airworthiness directive 2000-149, dated November 30, 2000, in order to assure the continued airworthiness of these airplanes in the Netherlands. The Fokker service bulletin refers to ABS Service Bulletin Fo100-32-83, dated October 30, 2000, as an additional source of service information.

FAA's Conclusions

This airplane model is manufactured in the Netherlands and is type certificated for operation in the United States under the provisions of section 21.29 of the Federal Aviation Regulations (14 CFR 21.29) and the applicable bilateral airworthiness agreement. Pursuant to this bilateral airworthiness agreement, the Netherlands has kept the FAA informed of the situation described above. The FAA has examined the findings of the RLD, reviewed all available information, and determined that AD action is necessary for products of this type design that are certificated for operation in the United States.

Explanation of Requirements of Proposed Rule

Since an unsafe condition has been identified that is likely to exist or develop on other airplanes of the same type design registered in the United States, the proposed AD would supersede AD 2000-21-12 to require replacement of the anti-skid control boxes with improved units. The actions would be required to be accomplished in accordance with the Fokker service bulletin described previously.

Cost Impact

There are approximately 129 airplanes of U.S. registry that would be affected by this proposed AD. The modification of an existing anti-skid control box that is proposed in this AD would take approximately 1 work hour per airplane to accomplish, at an average labor rate of $60 per work hour. Required parts would cost approximately $5,628 per airplane. Based on these figures, the cost impact of the proposed modification on U.S. operators is estimated to be $733,752 or $5,688 per airplane.

No information is available on the cost of replacement of an existing anti-skid control box with a new, improved anti-skid control box, which is provided in this proposal as an option to modification of the existing anti-skid control box.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11944 (65 FR 63795, October 25, 2000), and by adding a new airworthiness directive (AD), to read as follows:

Fokker: Docket 2001-NM-21-AD. Supersedes AD 2000-21-12, Amendment 39-11944.

Applicability: All Model F.28 Mark 0100 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c)(1) of this AD. The request should include an assessment of the effect of the modification, alteration, or repair on the unsafe condition addressed by this AD; and, if the unsafe condition has not been eliminated, the request should include specific proposed actions to address it.

Compliance: Required as indicated, unless accomplished previously.

To prevent electromagnetic interference with the anti-skid control system, which could result in reduced brake pressure during low-speed taxiing, and consequent reduced controllability and performance of the airplane, accomplish the following:

Modification or Replacement

(a) Within 24 months after the effective date of this AD: Accomplish the action specified in either paragraph (a)(1) or (a)(2) of this AD.

(1) Modify any anti-skid control box having part number (P/N) 6004272-3, -4, -5, or -6, in accordance with Fokker Service Bulletin SBF100-32-123, dated November 15, 2000; or

(2) Replace any anti-skid control box having part number (P/N) 6004272-3, -4, -5, or -6 with an improved unit having P/N 6004272-7, in accordance with Fokker Service Bulletin SBF100-32-123, dated November 15, 2000.

Note 2: Fokker Service Bulletin SBF100-32-123 refers to Aircraft Braking Systems Service Bulletin Fo100-32-83, dated October 30, 2000, as an additional source of service information.

Spares

(b) As of the effective date of this AD, no person shall install on any airplane an anti-skid control box having P/N 6004272-3, -4, -5, or -6, unless the anti-skid control box has been modified, in accordance with Fokker Service Bulletin SBF100-32-123, dated November 15, 2000.

Alternative Methods of Compliance

(c)(1) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

(2) Alternative methods of compliance, approved previously in accordance with AD 2000-21-12, amendment 39-63795, are approved as alternative methods of compliance with this AD.

Note 3: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Note 4: The subject of this AD is addressed in Dutch airworthiness directive 1999-149, dated November 30, 2000.

Issued in Renton, Washington, on July 30,2001.
Vi L. Lipski,
Manager, Transport Airplane Directorate, Aircraft Certification Service.

[FR Doc. 01-19424 Filed 8-2-01; 8:45 am]

BILLING CODE 4910-13-P